DEPARTMENT OF HEALTH AND HUMAN SERVICES

National Institutes of Health

Center for Scientific Review; Amended Notice of Meeting

Notice is hereby given of a change in the meeting of the Clinical and Integrative Gastrointestinal Pathobiology Study Section, September 17, 2006, 6 p.m. to September 19, 2006, 4 p.m., Bethesda Marriott Suites, 6711 Democracy Boulevard, Bethesda, MD 20817 which was published in the Federal Register on August 10, 2006, 71 FR 45844.

The meeting will be held September 17, 2006, 7 p.m. to September 18, 2006, 6 p.m. The meeting location remains the same. The meeting is closed to the public.

Dated: August 17, 2006.
Anna Snouffer,
Acting Director, Office of Federal Advisory Committee Policy.

[FR Doc. 06-7168 Filed 8-25-06; 8:45 am]

BILLING CODE 4140-01-M